DEPARTMENT OF THE TREASURY

Office of Thrift Supervision

Submission for OMB Review; Comment Request

January 30, 2001.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW., Washington, DC 20552.

DATES: Submit written comments on or before March 7, 2001.

OMB Number: 1550-0019.

Form Number: SEC Schedules 13D, 13G, 14A, 14C, 14D-1, and TO; SEC Forms 10, 10-SB, 10-K, 10-KSB, 8, 8-K, 8-A, 12b-25, 10-Q, 10-QSB, 15, 3, 4, 5, and Annual Report.

Type of Review: Regular.

Title: '34 Act Disclosures.

Description: OTS collects periodic disclosure documents required to be filed by savings associations pursuant to the Securities Exchange Act of 1934 on forms promulgated by the U.S. Securities and Exchange Commission for its registrants.

Respondents: Savings and Loan Associations and Savings Banks.

Estimated Number of Responses: 28.

Estimated Burden Hours Per Response: 3,410 hours.

Frequency of Response: Quarterly, Annually, and as required.

Estimated Total Reporting Burden: 95,467 hours.

Clearance Officer: Ralph E. Maxwell, (202) 906-7740, Office of Thrift Supervision, 1700 Street, NW., Washington, DC 20552.

OMB Reviewer: Alexander Hunt, (202) 395-7860, Office of Management and Budget, Room 10202, New Executive Office Building, Washington, DC 20503.

John E. Werner,
Director, Information & Management Services.

[FR Doc. 01-2917 Filed 2-2-01; 8:45 am]

BILLING CODE 6720-01-P